SURFACE TRANSPORTATION BOARD

[Docket No. FD 36006]

West Branch Intermediate Holdings, LLC and Continental Rail, LLC—Continuance in Control Exemption—Central Gulf Acquisition Company

AGENCY: Surface Transportation Board.

ACTION: Correction to notice of exemption.

On April 4, 2016, West Branch Intermediate Holdings, LLC and Continental Rail, LLC, both noncarriers, filed a verified notice of exemption pursuant to 49 CFR 1180.2(d)(2) to continue in control of Central Gulf Acquisition Company (CGAC) upon CGAC's becoming a Class III rail carrier.

On April 20, 2016, notice of the exemption was served and published in the Federal Register (81 FR 23,345). The served copy of the notice erroneously stated that, in Docket No. FD 36007, “CGAC seeks Board approval to acquire CG Railway, Inc., a Class III rail carrier, from International Shipholding Corporation.” The notice should have stated that CGAC seeks Board approval to acquire certain assets owned by CG Railway, Inc. This notice corrects that statement. All other information in the notice is correct.

Board decisions and notices are available on our Web site at www.stb.dot.gov.

Decided: April 20, 2016.
By the Board, Joseph H. Dettmar, Acting Director, Office of Proceedings.
Brendetta S. Jones,
Clearance Clerk.

[FR Doc. 2016-09514 Filed 4-22-16; 8:45 am]

BILLING CODE 4915-01-P